DEPARTMENT OF TRANSPORTATION

Federal Aviation Administration

Commercial Routes for the Grand Canyon National Park

AGENCY: Federal Aviation Administration (FAA), DOT.

ACTION: Notice; Delay of effective date.

SUMMARY: On April 4, 2000, the FAA issued a Notice of Availability of commercial routes in the Grand Canyon National Park (GCNP) Special Flight Rules Area (SFRA) setting forth new routes available for GCNP. Additionally, on that same day, the FAA published a final rule modifying the airspace of the SFRA. The new routes and the Airspace final rule are interrelated. On July 31, 2000, the United States Air Tour Association and seven air tour operators in GCNP requested a stay of the compliance date for the airspace final rule from the FAA. On October 11, 2000, the FAA published a denial of the stay request. On October 25, 2000, the Air Tour Providers filed with the D.C. Circuit Court of Appeals a Motion for Stay and Emergency Relief Pending Review of an Agency Order. On November 2, 2000, the FAA filed with the D.C. Circuit Court of Appeals its Opposition to Petitioners' Motion for Stay Pending Review and Notification of Administrative Stay of Route and Airspace Rules. This document delays the effective date of the Route system until December 28, 2000 so that the FAA may investigate some new safety issues just raised by the Air Tour Providers.

DATES: The Notice of availability for Commercial Routes for the Grand Canyon National Park was issued on March 28, 2000, and published in the Federal Register on April 4, 2000 (65 FR 17698). It was scheduled to become effective on December 1, 2000. The FAA is delaying implementation of the routes until December 28, 2000.

FOR FURTHER INFORMATION CONTACT: Howard Nesbitt, Flight Standards Service, (AFS-200). Federal Aviation Administration, Seventh and Maryland Streets, SW, Washington, DC 20591; Telephone (202) 493-4981.

SUPPLEMENTARY INFORMATION:

Background

On April 4, 2000, the Federal Aviation Administration published two final rules, the Modification of the Dimensions of the Grand Canyon National Park Special Flight Rules Area and Flight Free Zones (Air Space Modification), and the Commercial Air Tour Limitation in the Grand Canyon National Park Special Flight Rules Area (Commercial Air Tour Limitation). See 65 FR 17736; 65 FR 17708; April 4, 2000. The FAA also simultaneously published a notice of availability of Commercial Routes for the Grand Canyon National Park (Routes Notice). See 65 FR 17698, April 4, 2000. The commercial Air Tour Limitations final rule became effective on May 4, 2000. The Air Space Modification final rule and the routes set forth in the Routes Notice were scheduled to become effective December 1, 2000. The effective date of the Air Space Modification final rule and the new routes was delayed to provide the air tour operators ample opportunity to train on the new route system during the non-tour season. The Final Supplemental Environmental Assessment for Special Flight Rules in the Vicinity of Grand Canyon National Park (SEA) was completed on February 22, 2000, and the Finding of No Significant Impact was issued on February 25, 2000.

On May 8, 2000, the United States Air Tour Association and seven air tour operators (hereinafter collectively referred to as the Air Tour Providers) filed a petition for review of the two final rules before the United States Court of Appeals for the District of Columbia Circuit. This petition did not cover the Routes Notice. The FAA, The Department of Transportation, the Department of Interior, the National Park Service and various federal officials were named as respondents in this action. On May 30, 2000, the Air Tour Providers filed a motion for stay pending review before the Court of appeals. The federal respondents in this case filed a motion for summary denial on grounds that petitions had not exhausted their administrative remedies. The Court granted the federal respondents summary denial on July 19, 2000. The Grand Canyon Trust, the National Parks and Conservation Association, the Sierra Club, the Wilderness Society, Friends of the Grand Canyon and Grand Canyon River Guides, Inc. (The Trust) filed a petition for review of the same rules on May 22, 2000. The Court, by motion of the federal respondents, consolidated that case with that of the Air Tour Providers. The Hualapai Indian Tribe of Arizona filed a motion to intervene in the Air Tour Providers petition for review on June 23, 2000. The Court granted that motion on July 19, 2000.

On July 31, 2000, the Air Tour Providers filed a motion for stay before the FAA. Both the Hualapai Indian Tribe and the Trust filed oppositions to the Air Tour Providers' stay motion. On October 11, 2000, (65 FR 60352) the FAA published a disposition of the stay request, denying the stay. On October 25, 2000, the Air Tour Providers filed a Motion for Stay and Emergency Relief Pending Review of an Agency Order with the Court of Appeals. The federal respondents filed their Opposition to Petitioner's Motion for Stay Pending Review and Notification of Administrative Stay of Route and Airspace Rules on November 2, 2000.

Agency Action

The Air Tour Providers have raised some specific safety allegations about the routes in the Dragon Corridor (Green Route 2 and 2R), Zuni Point Corridor (Green 1; Black 1) and east of the Desert View Flight Free Zone (Black 2 and Green 3). These safety issues were not previously raised to the FAA and thus the FAA has not had the opportunity to investigate the merit of these allegations. The FAA takes these allegations very seriously and thus has sent out a group of FAA safety inspectors to verify the significance of these allegations. Based on the information obtained from these investigators, the FAA will determine how to best resolve any safety issues of merit. The FAA will report its findings to the Court by November 28, 2000. In the meantime, the FAA is delaying the effective date of the new routes until December 28, 2000. Elsewhere in this Federal Register, the FAA also is delaying the effective date of the airspace changes adopted in the April 4, 2000 final rule. The FAA also has suspended training on the routes in the Dragon Corridor, Zuni Point Corridor and east of Desert View Flight Free Zone until it has completed its safety review. If the FAA determines that any of the safety issues raised by Petitioners have merit, then it will take the necessary steps to resolve them before making any of the routes effective. The FAA also will provide adequate time for the needed training.

Dated: Issued in Washington, D.C. on November 14, 2000.
Jane F. Garvey,
Administrator, Federal Aviation Administration.

[FR Doc. 00-29621 Filed 11-16-00; 10:18 am]

BILLING CODE 4910-13-M